ENVIRONMENTAL PROTECTION AGENCY

[FRL-7602-7]

Proposed CERCLA Administrative Cost Recovery Settlement; In Re: Old Colony Railroad Superfund Site, East Bridgewater, Massachusetts

AGENCY: Environmental Protection Agency (EPA).

ACTION: Notice; request for public comment.

SUMMARY: In accordance with section 122(i) of the Comprehensive Environmental Response, Compensation, and Liability Act, as amended (“CERCLA”), 42 U.S.C. 9622(i), notice is hereby given of a proposed administrative settlement for recovery of past response costs concerning the Old Colony Railroad Superfund Site in East Bridgewater, Massachusetts, with the following settling parties: Karl Fisher, Edith Fisher and West Union Corporation. In the settlement, which is based upon inability-to-pay, the Settling Parties have agreed to provide EPA access to certain site property to conduct any further investigation or response action as may be necessary, and to place, or to cooperate in the placement, of institutional controls on certain site property as may be determined by EPA to be necessary. The settlement includes a covenant not to sue the settling parties pursuant to section 107(a) of CERCLA, 42 U.S.C. 9607(a). For thirty (30) days following the date of publication of this notice, the Agency will receive written comments relating to the settlement. The Agency will consider all comments received and may modify or withdraw its consent to the settlement if comments received disclose facts or considerations which indicate that the settlement is inappropriate, improper, or inadequate. The Agency's response to any comments received will be available for public inspection with the Regional Docket Clerk, U.S. Environmental Protection Agency, Region I, One Congress Street, Suite 1100, Mailcode RCG, Boston, Massachusetts (U.S. EPA Docket No. CERCLA 01-2003-0039).

DATES: Comments must be submitted on or before January 28, 2004.

ADDRESSES: The proposed settlement is available for public inspection with the Regional Docket Clerk, One Congress Street, Boston, Massachusetts. A copy of the proposed settlement may be obtained from Ronald Gonzalez, U.S. Environmental Protection Agency, Region I, One Congress Street, Suite 1100, Mailcode SES, Boston, Massachusetts 02214, (617) 918-1786. Comments should reference the Old Colony Railroad Superfund Site, East Bridgewater, Massachusetts and EPA Docket No. 01-2003-0039 and should be addressed to the Docket Clerk, U.S. Environmental Protection Agency, Region I, One Congress Street, Suite 1100, Mailcode RCG, Boston, Massachusetts 02214.

FOR FURTHER INFORMATION CONTACT: Ronald Gonzalez, U.S. Environmental Protection Agency, Region I, One Congress Street, Suite 1100, Mailcode SES, Boston, Massachusetts 02214, (617) 918-1786.

Dated: December 5, 2003.
Susan Studlien,
Director, Office of Site Remediation and Restoration.

[FR Doc. 03-31870 Filed 12-24-03; 8:45 am]

BILLING CODE 6560-50-P